FEDERAL COMMUNICATIONS COMMISSION

[OMB 3060-XXXX, 3060-0917, 3060-0918]

Information Collections Being Submitted for Review and Approval to the Office of Management and Budget

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The Commission may not conduct or sponsor a collection of information unless it displays a currently valid Office of Management and Budget (OMB) control number. No person shall be subject to any penalty for failing to comply with a collection of information subject to the PRA that does not display a valid OMB control number.

DATES: Written comments should be submitted on or before March 27, 2017. If you anticipate that you will be submitting comments, but find it difficult to do so within the period of time allowed by this notice, you should advise the contacts listed below as soon as possible.

ADDRESSES: Direct all PRA comments to Nicholas A. Fraser, OMB, via email Nicholas_A._Fraser@omb.eop.gov; and to Nicole Ongele, FCC, via email PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) Go to the Web page http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

SUPPLEMENTARY INFORMATION: As part of its continuing effort to reduce paperwork burdens, and as required by the Paperwork Reduction Act (PRA) of 1995 (44 U.S.C. 3501-3520), the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

OMB Control Number: 3060-XXXX.

Title: Expanding the Economic and Innovation Opportunities of Spectrum Through Incentive Auctions.

Form Number: N/A.

Type of Review: New collection.

Respondents: Businesses or other for-profit.

Number of Respondents and Responses: 832 respondents and 832 responses.

Estimated Time per Response: 1 hour.

Frequency of Response: Wireless licensees who are required to conduct an interference study will be required to produce the study upon request and when an interference complaint occurs.

Obligation to Respond: Mandatory. The statutory authority for this information collection is contained in 47 U.S.C. 151, 154, 301, 303, 307, 308, 309, 316, 319, 332, 403, 1452 and 1454.

Total Annual Burden: 832 hours.

Total Annual Costs: $10.

Nature and Extent of Confidentiality: There is no need for confidentiality. However, applicants may request that any information supplied be withheld from public inspection, pursuant to 47 CFR 0.459 of the FCC's rules. This request must be justified pursuant to 47 CFR 0.457.

Privacy Act Impact Assessment: No impact(s).

Needs and Uses: The Commission will submit this new information collection to the Office of Management and Budget (OMB) after this 60 day comment period in order to obtain the three-year clearance.

On October 26, 2015 the Federal Communications Commission released a Third Report and Order, OET seeks to Supplement the Incentive Auction Proceeding Record Regarding Potential Interference Between Broadcast Television and Wireless Services, ET Docket Nos. 13-26 and 14-14, which resolved the remaining technical issues affecting the operation of 600 MHz wireless licenses and broadcast television stations in areas where they operate on the same or adjacent channels in geographic proximity. Specifically, the Commission adopted a rule requiring wireless licensees to conduct an interference study prior to deploying or operating a wireless base station within a specified distance of a broadcast television station that is co-channel or adjacent channel to their spectrum. A wireless licensee is required to provide this interference study to the Commission upon request or to the broadcast television station when there is an interference complaint.

OMB Control Number: 3060-0917.

Title: CORES Registration Form, FCC Form 160.

Form Number: FCC Form 160.

Type of Review: Revision of a currently approved collection.

Respondents: Businesses or other for-profit entities; individuals or households; not-for-profit institutions; and State, Local, or Tribal Governments.

Number of Respondent and Responses: 93,000 respondents; 93,000 responses.

Estimated Time per Response: 10 minutes (0.167 hours).

Frequency of Response: One-time reporting requirement.

Obligation to Respond: Required to obtain or retain benefits. Statutory authority for this information collection is contained in the Debt Collection Act of 1996 (DCCA), Public Law 104-134, Chapter 10, Section 31001.

Total Annual Burden: 15,531 hours.

Total Annual Cost: None.

Privacy Impact Assessment: The Privacy Impact Assessment (PIA) covering the PII in the CORES information system is being updated. Upon completion it will be posted at: https://www.fcc.gov/general/privacy-act-information#pia.

Nature and Extent of Confidentiality: The FCC is not requesting that respondents submit confidential information to the Commission. If the FCC requests that respondents submit information which respondents believe is confidential, respondents may request confidential treatment of such information pursuant to Section 0.459 of the FCC's rules, 47 CFR 0.459. The FCC has a system of records, FCC/OMD-25, Financial Operations Information System (FOIS), to cover the collection, purpose(s), storage, safeguards, and disposal of the personally identifiable information (PII) that individual respondents may submit on FCC Form 160, which is posted at: https://www.fcc.gov/general/privacy-act-information#systems.

The FCC will also redact PII submitted on this form before it makes FCC Form 160 available for public inspection. FCC Form 160 includes a “privacy statement” to inform applicants (respondents) of the FCC's need to obtain the information and the protections that the FCC has in place to protect PII.

Needs and Uses: The Commission is revising Form 160 to include Restricted Use FRNs. These FRNs are created in the FCC's Commission Registration System (CORES) and are used only for Form 323, Ownership Report for Commercial Broadcast Station (OMB Control No. 3060-0010) and Form 323-E, Ownership Report for Noncommercial Educational Broadcast Station (OMB Control No. 3060-0084). Registering for a Restricted Use FRN will require the same information as other FRNs with the following differences: respondents will be required to enter a date of birth and only the last four digits of the Social Security Number.

Respondents use FCC Form 160 to register in CORES. When registering, the respondent receives a unique FCC Registration Number (FRN), which is required for anyone doing business with the Commission. Respondents may also register in CORES on-line at https://apps.fcc.gov/cores. FCC Form 160 is used to collect information that pertains to the entity's name, address, contact representative, telephone number, email address(es), and fax number. The Commission uses this information to collect or report on any delinquent debt arising from the respondent's business dealings with the FCC, including both “feeable” and “nonfeeable” services; and to ensure that registrants (respondents) receive any refunds due. Use of the CORES System is also a means of ensuring that the Commission operates in compliance with the Debt Collection Improvement Act of 1996 (DCCA), Public Law 104-134, Chapter 10, Section 31001.

On November 19, 2010, the FCC adopted a Notice of Proposed Rulemaking (NPRM), MD Docket No. 10-234, FCC 10-192, Amendment of Part 1 of the Commission's Rules Concerning Practice and Procedure, Amendment of CORES Registration System. The NPRM proposes to eliminate some of the FCC's exceptions to the requirement that entities and individuals provide their Taxpayer Identification Number (“TIN”) at the time of registration; require FRN holders to provide their email address(es); give FRN holders the option to identify multiple points of contact; and require FRN holders to indicate their tax-exempt status and notify the Commission of pending bankruptcy proceedings. All remaining existing information collection requirements would stay as they are.

OMB Control Number: 3060-0918.

Title: CORES Update/Change Form, FCC Form 161.

Form Number: FCC Form 161.

Type of Review: Revision of a currently approved collection.

Respondents: Businesses or other for-profit entities; individuals or households; not-for-profit institutions; and State, Local, or Tribal Governments.

Number of Respondents and Responses: 80,000 respondents; 80,000 responses.

Estimated Time per Response: 10 minutes (0.167 hours).

Frequency of Response: On occasion reporting requirement.

Obligation to Respond: Required to obtain or retain benefits. Statutory authority for this information collection is contained in the Debt Collection Act of 1996 (DCCA), Public Law 104-134, Chapter 10, Section 31001.

Total Annual Burden: 13,360 hours.

Total Annual Costs: None.

Privacy Impact Assessment: The Privacy Impact Assessment (PIA) covering the PII in the CORES information system is being updated. Upon completion it will be posted at: https://www.fcc.gov/general/privacy-act-information#pia.

Nature and Extent of Confidentiality: The FCC is not requesting that respondents submit confidential information to the Commission. If the FCC requests that respondents submit information which respondents believe is confidential, respondents may request confidential treatment of such information pursuant to Section 0.459 of the FCC's rules, 47 CFR 0.459. The FCC has a system of records, FCC/OMD-25, Financial Operations Information System (FOIS), to cover the collection, purpose(s), storage, safeguards, and disposal of the personally identifiable information (PII) that individual respondents may submit on FCC Form 161, which is posted at: https://www.fcc.gov/general/privacy-act-information#systems.

The FCC will also redact PII submitted on this form before it makes Start Printed Page 41797FCC Form 161 available for public inspection. FCC Form 161 includes a “privacy statement” to inform applicants (respondents) of the FCC's need to obtain the information and the protections that the FCC has in place to protect PII.

Needs and Uses: The Commission is revising Form 161 to include Restricted Use FRNs. These FRNs are created in the FCC's Commission Registration System (CORES) and are used only for Form 323, Ownership Report for Commercial Broadcast Station (OMB Control No. 3060-0010) and Form 323-E, Ownership Report for Noncommercial Educational Broadcast Station (OMB Control No. 3060-0084). Registering for a Restricted Use FRN will require the same information as other FRNs with the following differences: respondents will be required to enter a date of birth and only the last four digits of the Social Security Number.

After respondents have registered in CORES and have been issued a FCC Registration Number (FRN), they may use FCC Form 161 to update and/or change their contact information, including name, address, telephone number, email address(es), fax number, contact representative, contact representative's address, telephone number, email address, and/or fax number. Respondents may also update their registration information in CORES on-line at https://apps.fcc.gov/cores. The Commission uses this information to collect or report on any delinquent debt arising from the respondent's business dealings with the FCC, including both “feeable” and “nonfeeable” services; and to ensure that registrants (respondents) receive any refunds due. Use of the CORES System is also a means of ensuring that the Commission operates in compliance with the Debt Collection Improvement Act of 1996.

On November 19, 2010, the FCC adopted a Notice of Proposed Rulemaking (NPRM), MD Docket No. 10-234, FCC 10-192, Amendment of Part 1 of the Commission's Rules Concerning Practice and Procedure, Amendment of CORES Registration System. The NPRM proposes to eliminate some of the FCC's exceptions to the requirement that entities and individuals provide their Taxpayer Identification Number (“TIN”) at the time of registration; require FRN holders to provide their email address(es); give FRN holders the option to identify multiple points of contact; and require FRN holders to indicate their tax-exempt status and notify the Commission of pending bankruptcy proceedings. All remaining existing information collection requirements would stay as they are.

Federal Communications Commission.
Marlene H. Dortch,
Secretary, Office of the Secretary.

[FR Doc. 2017-03510 Filed 2-22-17; 8:45 am]

BILLING CODE 6712-01-P